DEPARTMENT OF ENERGY

Federal Energy Regulatory Commission

18 CFR Part 35

Filing of Rate Schedules and Tariffs

CFR Correction

In Title 18 of the Code of Federal Regulations, parts 1 to 399, revised as of April 1, 2015, on page 275, in § 35.11, in the first sentence, the phrase “a rate schedule, tariff, or service agreement,” is revised to read, “a rate schedule or tariff, tariff or service agreement,”; and the phrase “the rate schedule or tariff would become effective” is revised to read “the rate schedule or tariff, tariff or service agreement would become effective”. And, in the second sentence, the phrase “under such rate schedule or tariff,” is revised to read “under such rate schedule or tariff, tariff or service agreement,”.

[FR Doc. 2016-07562 Filed 3-31-16; 8:45 am]

BILLING CODE 1505-01-D